DEPARTMENT OF THE TREASURY

Office of Foreign Assets Control

Unblocking of Specially Designated Nationals and Blocked Persons Pursuant to the Cuban Assets Control Regulations

AGENCY: Office of Foreign Assets Control, Treasury.

ACTION: Notice.

SUMMARY: The Treasury Department's Office of Foreign Assets Control (“OFAC”) is publishing the name of one individual and one entity whose property and interests in property have been unblocked pursuant to the Cuban Assets Control Regulations (31 CFR Part 515).

DATES: The unblocking and removal from the list of Specially Designated Nationals and Blocked Persons (“SDN list”) of the individual and entity identified in this notice whose property and interests in property were blocked pursuant to the Cuban Assets Control Regulations (31 CFR part 515), is effective on March 2, 2010.

FOR FURTHER INFORMATION CONTACT: Assistant Director, Compliance Outreach & Implementation, Office of Foreign Assets Control, Department of the Treasury, Washington, DC 20220, tel.: 202/622-2420.

SUPPLEMENTARY INFORMATION:

Electronic and Facsimile Availability

This document and additional information concerning OFAC are available at OFAC's Web site (http://www.treas.gov/ofac) or via facsimile through a 24-hour fax-on-demand service at (202) 622-0077.

Background

On March 2, 2010, OFAC removed from the SDN list the individual and entity listed below, whose property and interests in property were blocked pursuant to the Cuban Assets Control Regulations (31 CFR part 515):

1. FUENTES COBA, Fernando, Cozumel, Mexico (individual) [CUBA].

2. AMERICAN AIR WAYS CHARTERS, INC., 1840 West 49th Street, Hialeah, FL [CUBA].

Dated: March 2, 2010.
Adam J. Szubin,
Director, Office of Foreign Assets Control.

[FR Doc. 2010-4901 Filed 3-11-10; 8:45 am]

BILLING CODE 4810-AL-P